DEPARTMENT OF AGRICULTURE

Submission for OMB Review; Comment Request

April 30, 2013.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), Washington, DC, OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Rural Business-Cooperative Service

Title: Rural Micro-Entrepreneur Assistance Program.

OMB Control Number: 0570-0062.

Summary of Collection: Section 6022 of the Food, Conservation, and Energy Act of 2008 (2008 Farm Bill) authorizes the Rural Micro-entrepreneur Assistance Program (RMAP). The Secretary makes direct loans to rural microenterprise development organizations (MDOs) that are participating in the program (who are referred to as “micro-lenders”) for the purpose of capitalizing microloan revolving funds to provide fixed interest rate business loans of $50,000 or less to micro-entrepreneurs, as defined in the 2008 Farm Bill.

Need and Use of the Information: The program provides rural micro-entrepreneurs with the skills necessary to establish new rural microenterprises; to provide continuing technical and financial assistance related to the successful operation of rural microenterprises; and to assist with the cost of providing other activities and services related to the successful operation of MDOs and rural microenterprises. Micro-lenders seeking loans and/or grants will have to submit applications that include specified information, certifications, and agreements to the Agency. This information will be used to determine applicant eligibility and to ensure that funds are used for authorized purposes.

Description of Respondents: Business or other for-profit;

Number of Respondents: 73.

Frequency of Responses: Reporting: Quarterly, Annually.

Total Burden Hours: 3,327.

Charlene Parker,
Departmental Information Collection Clearance Officer.

[FR Doc. 2013-10547 Filed 5-2-13; 8:45 am]

BILLING CODE 3410-XT-P